DEPARTMENT OF THE INTERIOR

Bureau of Indian Affairs

Indian Gaming

AGENCY: Bureau of Indian Affairs, Interior.

ACTION: Notice of Approved Tribal-State Compact.

SUMMARY: This notice publishes approval of the 2009 Amendments to the Lac du Flambeau Band of Lake Superior Chippewa Indians (“Tribe”) and the State of Wisconsin Gaming Compact of 1991.

DATES: Effective Date: June 17, 2009.

FOR FURTHER INFORMATION CONTACT: Paula L. Hart, Acting Director, Office of Indian Gaming, Office of the Deputy Assistant Secretary—Policy and Economic Development, Washington, DC 20240, (202) 219-4066.

SUPPLEMENTARY INFORMATION: Under section 11 of the Indian Gaming Regulatory Act of 1988 (IGRA), Public Law 100-497, 25 U.S.C. 2710, the Secretary of the Interior shall publish in the Federal Register notice of approved Tribal-State compacts for the purpose of engaging in Class III gaming activities on Indian lands. This Amendment allows the Tribe to play poker and other card games; pari-mutuel, keno, craps and other dice games; roulette, big wheel and other wheel games; and electronic and video facsimile versions of any authorized game. This Amendment also allows for a 25-year term limit with an automatic 25-year renewal unless served notice of nonrenewal.

Dated: June 9, 2009.
Larry Echo Hawk,
Assistant Secretary—Indian Affairs.

[FR Doc. E9-14260 Filed 6-16-09; 8:45 am]

BILLING CODE 4310-4N-P